DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Defining Target Levels for Ecosystem Targets: A Socio-Ecological Approach.

OMB Control Number: None.

Form Number(s): NA.

Type of Request: Regular submission (request for a new, one-time information collection).

Number of Respondents: 1,000.

Average Hours per Response: 15 minutes.

Burden Hours: 250.

Needs and Uses: This notice is for the request of a new information collection. The creation of the Puget Sound Partnership (PSP) allowed for a group of private and public entities, local citizens, tribes and businesses to begin to collectively work toward restoring the ecological health of the Puget Sound. With the PSP's inception, the Puget Sound ecosystem has become a national example of ecosystem-based management (EBM) implementation. The Partnership Action Agenda indentified 80 near-term actions that are required for ecosystem recovery. These actions, however, will require specific performance measures.

Ecosystems can contain numerous species, and a mean level of species placement within a predator/prey chain or food web can serve as an ecological indicator. Similarly, measures of relative biodiversity may provide indications of ecological health and therefore function as ecological indicators. Such indicators can facilitate EBMt, when target levels for indicators exist. Because targets are an expression of the desired state of the ecosystem, establishing targets must include both ecological understanding and societal values. This project will develop a unique approach for identifying scientifically rigorous ecosystem targets that explicitly considers social perspectives. For this reason, the Northwest Fisheries Science Center seeks to conduct social norm analyses which involve a survey of Puget Sound community stakeholders. Stakeholders will be asked, via telephone survey, a series of general questions regarding their views on the Puget Sound environment and the desirability of a range of potential ecosystem conditions for the Puget Sound.

A random digit dial phone survey will be conducted. The survey will be voluntary, and contacted individuals may decline to participate. Respondents will be asked to respond to statements regarding their perceptions of the health of the Puget Sound. Demographic and employment information will be collected so that responses can be organized based on a stakeholder typology. This survey is essential because data on social norms, values and beliefs in the Puget Sound region are sparse; yet, they are critical to the development of sound ecosystem health targets.

Affected Public: Individuals or households.

Frequency: One time.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: July 29, 2011.
Gwellnar Banks,
Management Analyst, Office of the Chief Information Officer.

[FR Doc. 2011-19750 Filed 8-3-11; 8:45 am]

BILLING CODE 3510-22-P